DEPARTMENT OF HEALTH AND HUMAN SERVICES

Centers for Disease Control and Prevention

[30Day-10-04]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: NCHS Questionnaire Design Research Laboratory (OMB No. 0920-0222)—Revision—National Center for Health Statistics (NCHS), Centers for Disease Control and Prevention (CDC). The NCHS Questionnaire Design Research Laboratory (QDRL) conducts questionnaire pre-testing and evaluation activities for CDC surveys (such as the NCHS National Health Interview Survey) and other federally sponsored surveys. The most common questionnaire evaluation method is the cognitive interview. In a cognitive interview, a questionnaire design specialist interviews a volunteer participant. The interviewer administers the draft survey questions as written, probes the participant in depth about interpretations of questions, recall processes used to answer questions and adequacy of response categories to express answers, while noting points of confusion and errors in responding.

Interviews are generally conducted in small rounds of 12 interviews; the questionnaire is re-worked between rounds, and revisions are tested iteratively until interviews yield relatively few new insights. When possible, cognitive interviews are conducted in the survey's intended mode of administration. For example, when testing telephone survey questionnaires, participants often respond to the questions via a telephone in a laboratory room. This method forces the participant to answer without face-to-face interaction, yet it still allows QDRL staff to observe response difficulties, and to conduct a face-to-face debriefing. Five types of activities will be carried out: (1) Survey questionnaire development and testing based on cognitive interviewing methodology; (2) Research on the cognitive aspects of survey methodology; (3) Research on computer-user interface design for computer-assisted instruments, also known as usability testing; (4) Pilot household interviews; and (5) Studies of the optimal design and presentation of statistical, graphical and textual materials.

In general, cognitive interviewing provides useful data on questionnaire performance at minimal cost and respondent burden (note that respondents receive remuneration for their travel and effort). Similar methodology has been adopted by other federal agencies, as well as by academic and commercial survey organizations. The estimated annualized burden for this data collection is 600 hours. CDC is requesting OMB approval of this data collection for 3 years.

Anticipated 2004-2007 projects | Number of respondents | Number of responses per respondent | Average burden per response (in hours)
QDRL Laboratory Interviews:
(1) National Health Interview Survey (NHIS) modules | 100 | 1 | 1.25
(2) Behavioral Risk Factor Surveillance System Survey (BRFSS) | 50 | 1 | 1.25
(3) Healthy People 2010 (HP 2010) | 50 | 1 | 1.25
(4) National Survey of Family Growth (NSFG) | 50 | 1 | 1.25
(5) Pregnancy Risk Assessment Monitoring System (PRAMS) | 50 | 1 | 1.25
(6) National Health and Nutrition Examination Survey (NHANES) | 50 | 1 | 1.25
(7) Other questionnaire testing:
2004 | 100 | 1 | 1.25
2005 | 100 | 1 | 1.25
2006 | 100 | 1 | 1.25
(8) Perceptions of Quality of Life project | 80 | 1 | 1.25
(9) Perceptions of Confidentiality Project | 50 | 1 | 1.25
(10) Perception of Statistical Maps Project | 50 | 1 | 1.25
(11) General Methodological Research | 100 | 1 | 1.25
Pilot Household Interviews:
2004 NHIS Modules | 50 | 1 | 1.25
2005 NHIS Modules | 50 | 1 | 1.25
2006 NHIS Modules | 50 | 1 | 1.25
Focus Groups (10 groups of 10 for three years) | 300 | 1 | 1.50

Dated: December 8, 2003.
Alvin Hall,
Director, Management Analysis and Services Office, Centers for Disease Control And Prevention.

[FR Doc. 03-31187 Filed 12-17-03; 8:45 am]

BILLING CODE 4163-18-P